DEPARTMENT OF ENERGY

Federal Energy Regulatory Commission

Combined Notice of Filings

Take notice that the Commission has received the following Natural Gas Pipeline Rate and Refund Report filings:

Filings Instituting Proceedings

Docket Numbers: RP22-833-000.

Applicants: Southwest Gas Transmission Company, A Limited Partnership.

Description: Compliance filing: Pre-File Settlement in Lieu of Rate Filing to be effective April 1, 2022 to be effective N/A.

Filed Date: 4/20/22.

Accession Number: 20220420-5172.

Comment Date: 5 p.m. ET 5/2/22.

Docket Numbers: RP22-834-000.

Applicants: Columbia Gas Transmission, LLC.

Description: § 4(d) Rate Filing: Negotiated Rate and Non-Conforming Agreement Clean Up to be effective 5/21/2022.

Filed Date: 4/21/22.

Accession Number: 20220421-5086.

Comment Date: 5 p.m. ET 5/3/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2022.
Debbie-Anne A. Reese,
Deputy Secretary.

[FR Doc. 2022-08962 Filed 4-26-22; 8:45 am]

BILLING CODE 6717-01-P